DEPARTMENT OF ENERGY

Office of Energy Efficiency and Renewable Energy

10 CFR Part 430

[Docket Number EE-RM/STD-98-440]

RIN: 1904-AA77

Energy Conservation Program for Consumer Products: Central Air Conditioners and Heat Pumps Energy Conservation Standards; Correction

AGENCY: Office of Energy Efficiency and Renewable Energy, Department of Energy.

ACTION: Supplemental proposed rule; correction.

SUMMARY: This document corrects the preamble to a proposed rule published in the Federal Register of July 25, 2001, regarding Energy Conservation Program for Consumer Products: Central Air Conditioners and Heat Pumps Energy Conservation Standards. This correction revises the cumulative change in industry net present value, the cumulative regulatory burden on industry, and the estimated number of gas-fired power plants not needed as a result of the proposed standard.

FOR FURTHER INFORMATION CONTACT: Dr. Michael E. McCabe, (202) 586-0854, e-mail: michael.e.mccabe@ee.doe.gov.

SUPPLEMENTARY INFORMATION:

Correction

In proposed rule document FR Doc. 01-18429, appearing on page 38822, in the issue of Wednesday, July 25, 2001, the following corrections are made:

(1) On page 38831 in the second column, third line, the first complete sentence is corrected to the following: “In 2020, the proposed standards would avoid the construction of three 400 megawatt coal-fired plants and twenty-four 400 megawatt gas-fired plants.”

(2) On page 38834 in the second column, in the first paragraph of Section V.B.2.a, the sixth sentence is corrected to the following: “Revising the standard for air conditioner and heat pump efficiency would contribute up to an additional $303 million, bringing the total cumulative regulatory burden to as high as $782 million.”

(3) On page 38835, in Table 4, in the row with the heading “Industry Impacts (million $): Cumulative Change in Industry NPV” and under the columns with the headings: “Trial std 1; Trial std 2; Trial std 3; and Trial std 4;” replace the numerical values with: “(30); (159); (171); and (303)”, respectively.

(4) On page 38835, in Table 4, in the row with the heading “Industry Impacts (million $): Cumulative Regulatory Burden on Industry” and under the columns with the headings: “Trial std 1; Trial std 2; Trial std 3; and Trial std 4;” replace the numerical values with: “(>509); (>638); (>650); and (>782)”, respectively.

(5) On page 38836 in the second column, in the third paragraph, the last sentence is corrected to the following: “Furthermore, the cumulative impact of all new Federal and State regulations would exceed $782 million.”

(6) On page 38837 in the second column, in the first paragraph, the last sentence is corrected to the following: “Furthermore, the cumulative impact of all new Federal and State regulations would exceed $650 million.”

(7) On page 38838 in the first column, in the second paragraph, the last sentence is corrected to the following: “Furthermore, the cumulative impact of all new Federal and State regulations would exceed $638 million.”

(8) On page 38841 in the second column, line seven, the last sentence is corrected to the following: “This would be the equivalent of three 400 megawatt coal-fired plants and twenty-four 400 megawatt gas-fired plants.”

Issued in Washington, DC, on August 22, 2001.
David K. Garman,
Assistant Secretary, Energy Efficiency and Renewable Energy.

[FR Doc. 01-21665 Filed 8-27-01; 8:45 am]

BILLING CODE 6450-01-P